DEPARTMENT OF COMMERCE

International Trade Administration

[A-570-822, A-583-820]

Continuation of Antidumping Duty Orders on Helical Spring Lock Washers From China and Taiwan

AGENCY: Import Administration, International Trade Administration, Department of Commerce.

ACTION: Notice of Continuation of Antidumping Duty Orders on Helical Spring Lock Washers from China and Taiwan.

SUMMARY: On June 5, 2000, the Department of Commerce (“the Department”), pursuant to sections 751(c) and 752 of the Tariff Act of 1930, as amended (“the Act”), determined that revocation of the antidumping duty orders on helical spring lock washers from China and Taiwan is likely to lead to continuation or recurrence of dumping (65 FR 35605). On January 31, 2001, the International Trade Commission (“the Commission”), pursuant to section 751(c) of the Act, determined that revocation of the antidumping duty orders on helical spring lock washers from China and Taiwan would be likely to lead to continuation or recurrence of material injury to an industry in the United States within a reasonably foreseeable time (66 FR 8424). Therefore, pursuant to 19 CFR 351.218(f)(4), the Department is publishing notice of the continuation of the antidumping duty orders on helical spring lock washers from China and Taiwan.

EFFECTIVE DATE: February 23, 2001.

FOR FURTHER INFORMATION CONTACT: Martha V. Douthit or James P. Maeder, Office of Policy for Import Administration, International Trade Administration, U.S. Department of Commerce, 14th Street and Constitution Ave., NW, Washington, D.C. 20230; telephone: (202) 482-5050 or (202) 482-3330, respectively.

SUPPLEMENTARY INFORMATION:

Background

On November 2, 1999, the Department initiated (64 FR 59160) and the Commission instituted (64 FR 59204) sunset reviews of the antidumping duty orders on helical spring lock washers from China and Taiwan pursuant to section 751(c) of the Act. As a result of its reviews, the Department found that revocation of the antidumping duty orders on helical spring lock washers from China and Taiwan is likely to lead to continuation or recurrence of dumping and notified the Commission of the magnitude of the margin likely to prevail were the orders revoked. See Helical Spring Lock Washers From the People's Republic of China and Taiwan; Final Results of Expedited Sunset Reviews, 65 FR 35605 (June 5, 2000).

On January 31, 2001, the Commission determined, pursuant to section 751(c) of the Act, that revocation of the antidumping duty orders on helical spring lock washers from China and Taiwan would be likely to lead to continuation or recurrence of material injury to an industry in the United States within a reasonably foreseeable time. See Helical Spring Lock Washers from China and Taiwan, 66 FR 8424 (January 31, 2001) and USITC Publication. 3384, (January 2001), Investigation Nos. 731-TA-624-625 (Review).

Scope

The products subject to these antidumping duty orders include helical spring lock washers of carbon steel, of carbon alloy steel, or of stainless steel, heat-treated or non-heat-treated, plated or non-plated, with ends that are off-line. Helical spring lock washers are designed to: (1) Function as a spring to compensate for developed looseness between the component parts of a fastened assembly; (2) distribute the load over a larger area for screws or bolts; and, (3) provide a hardened bearing surface. The scope does not include internal or external tooth washers, nor does it include spring lock washers made of other metals, such as copper. Helical spring lock washers subject to these orders are currently classifiable under subheading 7318.21.0030 of the Harmonized Tariff Schedule (“HTS”). Although the HTS subheading is provided for convenience and customs purposes, the written description of the scope remains dispositive.

Determination

As a result of the determinations by the Department and the Commission that revocation of the antidumping duty orders would be likely to lead to continuation or recurrence of dumping and material injury to an industry in the United States, pursuant to section 751(d)(2) of the Act, the Department hereby orders the continuation of the antidumping duty orders on helical spring lock washers from China and Taiwan. The Department will instruct the Customs Service to continue to collect antidumping duty deposits at the rates in effect at the time of entry for all imports of subject merchandise. The effective date of continuation of these orders will be the date of publication in the Federal Register of this Notice of Continuation. Pursuant to section 751(c)(2) and 751(c)(6) of the Act, the Department intends to initiate the next five-year review of these orders not later than January 2006. This notice is published pursuant to section 703(c)(2) of the Act. Effective January 20, 2001, Bernard T. Carreau is fulfilling the duties of the Assistant Secretary for Import Administration.

Dated: February 6, 2001.
Bernard T. Carreau,
Deputy Assistant Secretary, AD/CVD Enforcement II.

[FR Doc. 01-4533 Filed 2-22-01; 8:45 am]

BILLING CODE 3510-DS-P